DEPARTMENT OF DEFENSE

Office of the Secretary

Privacy Act of 1974; System of Records

AGENCY: Office of the Secretary, DoD.

ACTION: Notice to Amend a System of Records.

SUMMARY: The Office of the Secretary is amending a system of records notice in its inventory of records systems subject to the Privacy Act of 1974, as amended (5 U.S.C. 552a). The amended system of records notice reflects the agency's name change from the ‘Defense Protective Service’ to the ‘Pentagon Force Protection Agency’.

DATES: The changes will be effective on August 22, 2003 unless comments are received that would result in a contrary determination.

ADDRESSES: Send comments to OSD Privacy Act Coordinator, Records Management Section, Washington Headquarters Services, 1155 Defense Pentagon, Washington, DC 20301-1155.

FOR FURTHER INFORMATION CONTACT: Mr. Dan Cragg at (703) 601-4722.

SUPPLEMENTARY INFORMATION: The Office of the Secretary of Defense notices for systems of records subject to the Privacy Act of 1974 (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: July 15, 2003.
Patricia L. Toppings,
Alternate OSD Federal Register Liaison Officer, Department of Defense.

DWHS P42

System name:

DPS Incident Reporting and Investigations Case Files (March 24, 1994, 59 FR 13938).

Changes

* * * * *

System name:

Delete entry and replace with ‘Pentagon Police Department Incident Reporting and Investigations Case Files’.

System location:

Delete entry and replace with ‘Pentagon Force Protection Agency, 9000 Defense Pentagon, Washington, DC 20301-9000.’

* * * * *

System manager(s) and address:

Delete entry and replace with ‘Chief Information Officer, Pentagon Force Protection Agency, 9000 Defense Pentagon, Washington, DC 20301-9000’.

* * * * *

DWHS P42

System name:

Pentagon Police Department Incident Reporting and Investigations Case Files.

System location:

Pentagon Force Protection Agency, 9000 Defense Pentagon, Washington, DC 20301-9000.

Categories of individuals covered by the system:

Persons who are the source of an initial complaint or allegation that a crime took place.

Witnesses having information or evidence about any aspect of an investigation.

Suspects in the criminal situation who are subjects of an investigation. Persons who may pose a threat to the Secretary of Defense, the Deputy Secretary of Defense and other Senior Defense Officials.

Persons who may pose a threat to the personal safety of themselves or others while in the Pentagon Force Protection Agency/Pentagon Police Department (PFPA/PPD) controlled jurisdiction.

Subjects of investigations on non-criminal matters.

Current and former applicants for the position of PFPA/PPD Officer.

Sources of information and evidence. The identity of these individuals may be confidential as appropriate to the subject matter they contribute. These files contain information vital to the outcome of administrative procedures and civil and criminal cases.

Individuals associated with terrorism or terrorist groups and activities and names of regional, nationwide, and worldwide terrorist organizations.

Categories of records in the system:

Preliminary and other reports of criminal investigations from the opening of a case until it is closed. These records are instituted and maintained at varying points in the process. The processes of criminal justice and civil and administrative remedies may require their partial or total disclosure.

Security files contain information such as name, date and place of birth, address, Social Security Number, education, occupation, experience, and investigatory material. Contingency Planning/Analysis files contain information such as names and other identifying information and investigatory material on an individual associated with terrorists or terrorist groups and activities. File contains information about regional, nationwide, and worldwide terrorist organizations and their effects on security of DoD facilities under the jurisdiction of PFPA. Intelligence briefs; tactical, operational, and strategic informational reports; regional and nationwide contingency analysis; contingency action plans; and patterns and trends of potential or actual terrorists or terrorist groups, or other activities that could disrupt the orderly operation of Defense-owned or controlled facilities over which the PFPA has jurisdiction.

Documents created in enforcing regulations regarding motor vehicle movement and parking on Federal premises including reports of traffic accidents, traffic violation notices and similar records maintained by PFPA.

Authority for maintenance of the system:

Section 21, Internal Security Act of 1950 (Pub. L. 831, 81st Cong.); 40 U.S.C. 318, as delegated by Administrator, General Services Administration, to the Deputy Secretary of Defense, September 1987, and E.O. 9397 (SSN).

Purpose(s):

Information in this system supports the public safety, law enforcement, facility security, and contingency planning functions of the PFPA. Additional functions supported include information on current and former applicants for the position of PFPA/PPD Officer and Internal Affairs investigative records.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To a Federal, state, local, or foreign agency responsible for investigating, prosecuting, enforcing, or carrying out a statute, rule, regulation, or order, where the agency is aware of a violation or potential violation of civil or criminal law or regulation.

To an appeal, grievance, or formal complaints examiner; equal employment opportunity investigator; arbitrator; exclusive representative; or other officials engaged in investigating, or settling a grievance, complaint or appeal filed by an employee.

To various bureaus and divisions of the Department of Justice that have primary jurisdiction over subject matter and location which PFPA shares.

To law enforcement agencies which have lawfully participated in and conducted investigation jointly with PFPA.

Pursuant to the order of a court of competent jurisdiction, when the United States is party to or has interest in litigation, and using the records is relevant, necessary, and compatible with the purposes of collecting the information.

To an insurance company of one or more parties when an insured is involved in an injury or accident in the PFPA jurisdiction and an Accident Report is required to resolve claims or to settle matters of record.

The DoD ‘Blanket Routine Uses’ set forth at the beginning of OSD's compilation of systems of records notices apply to this system.

Policies and practices for storing, retrieving, accessing, retaining, and disposing of records in the system:

Storage:

Paper records in file folders in file cabinets. Magnetic media in controlled access areas for both on-line and storage disks.

Retrievability:

Paper records by case control number and type of incident. Magnetic files by case control number, name, address, and physical description of subject individual.

Safeguards:

Paper records are stored in secure filing cabinets in room with built-in-position dial-type combination safe lock. Computer records are maintained in limited access sites on a system protected by a software-controlled password system.

Retention and disposal:

Non-criminal records are destroyed one year after case is closed.

Criminal records are cutoff when case is closed and placed in an inactive file for three years. After three years in the inactive file, the records are retired to the Washington National Records Center for an additional 15 years, after which time they will be destroyed. Information on current and former applicants for position of PFPA/PPD Officer are maintained two years and then destroyed.

Contingency planning and analysis files pertaining to regional, nationwide, and worldwide terrorist organizations and their potential effects of the security of DoD facilities are destroyed when superseded, obsolete, or no longer needed.

System manager(s) and address:

Chief Information Officer, Pentagon Force Protection Agency, 9000 Defense Pentagon, Washington, DC 20301-9000.

Notification procedure:

Individuals seeking to determine whether this system of records contains information about themselves should address inquiries to the Pentagon Force Protection Agency, 9000 Defense Pentagon, Washington, DC 20301-9000.

Record access procedures:

Individuals seeking access to records about themselves contained in this system of records should address inquiries to the Pentagon Force Protection Agency, 9000 Defense Pentagon, Washington, DC 20301-9000.

Contesting record procedures:

The OSD rules for accessing records, for contesting contents and appealing initial agency determinations are published in OSD Administrative Instruction 81; 32 CFR part 311; or may be obtained from the system manager.

Record source categories:

Investigators, informants, witnesses, official records, investigative leads, statements, depositions, business records, or any other information source available to PFPA.

Exemptions claimed for the system:

Parts of this system may be exempt pursuant to 5 U.S.C. 552a(j)(2) if the information is compiled and maintained by a component of the agency, which performs as its principle function any activity pertaining to the enforcement of criminal laws. The criminal investigation case file and contingency planning and analysis file may be partially or totally subject to the general exemption.

An exemption rule for this record system has been promulgated in accordance with the requirements of 5 U.S.C. 553(b) (1), (2), and (3), (c) and (e) and published in 32 CFR part 311. For additional information contact the system manager.

[FR Doc. 03-18644 Filed 7-22-03; 8:45 am]

BILLING CODE 5001-08-P